ENVIRONMENTAL PROTECTION AGENCY

40 CFR Part 141

[EPA-HQ-OW-2013-0300; FRL-9818-2]

Expedited Approval of Alternative Test Procedures for the Analysis of Contaminants Under the Safe Drinking Water Act; Analysis and Sampling Procedures

AGENCY: Environmental Protection Agency (EPA).

ACTION: Final rule.

SUMMARY: This action announces the U.S. Environmental Protection Agency's (EPA's) approval of alternative testing methods for use in measuring the levels of contaminants in drinking water and determining compliance with national primary drinking water regulations. The Safe Drinking Water Act (SDWA) authorizes EPA to approve the use of alternative testing methods through publication in the Federal Register. EPA is using this streamlined authority to make 84 additional methods available for analyzing drinking water samples. This expedited approach provides public water systems, laboratories, and primacy agencies with more timely access to new measurement techniques and greater flexibility in the selection of analytical methods, thereby reducing monitoring costs while maintaining public health protection.

DATES: This action is effective May 31, 2013.

FOR FURTHER INFORMATION CONTACT: Safe Drinking Water Hotline (800) 426-4791 or Glynda Smith, Technical Support Center, Standards and Risk Management Division, Office of Ground Water and Drinking Water (MS 140), Environmental Protection Agency, 26 West Martin Luther King Drive, Cincinnati, OH 45268; telephone number: (513) 569-7652; email address: smith.glynda@epa.gov.

SUPPLEMENTARY INFORMATION:

I. General Information

A. Does this action apply to me?

Public water systems are the regulated entities required to measure contaminants in drinking water samples. In addition, EPA Regions as well as States and Tribal governments with authority to administer the regulatory program for public water systems under SDWA may also measure contaminants in water samples. When EPA sets a monitoring requirement in its national primary drinking water regulations for a given contaminant, the agency also establishes in the regulations standardized test procedures for analysis of the contaminant. This action makes alternative testing methods available for particular drinking water contaminants beyond the testing methods currently established in the regulations. EPA is providing public water systems required to test water samples with a choice of using either a test procedure already established in the existing regulations or an alternative test procedure that has been approved in this action or in prior expedited approval actions. Categories and entities that may ultimately be affected by this action include:

Category | Examples of potentially regulated entities | NAICS ¹
State, Local, & Tribal Governments | States, local and Tribal governments that analyze water samples on behalf of public water systems required to conduct such analysis; States, local and Tribal governments that themselves operate community and non-transient non-community water systems required to monitor. | 924110
Industry | Private operators of community and non-transient non-community water systems required to monitor. | 221310
Municipalities | Municipal operators of community and non-transient non-community water systems required to monitor. | 924110
¹ North American Industry Classification System.

This table is not exhaustive, but rather provides a guide for readers regarding entities likely to be affected by this action. This table lists the types of entities that EPA is now aware could potentially be affected by this action. Other types of entities not listed in the table could also be impacted. To determine whether your facility is affected by this action, you should carefully examine the applicability language in the Code of Federal Regulations (CFR) at 40 CFR 141.2 (definition of public water system). If you have questions regarding the applicability of this action to a particular entity, consult the person listed in the preceding FOR FURTHER INFORMATION CONTACT section.

B. How can I get copies of this document and other related information?

Docket. EPA established a docket for this action under Docket ID No. EPA-HQ-OW-2013-0300. Publicly available docket materials are available either electronically through www.regulations.gov or in hard copy at the Water Docket in the EPA Docket Center, (EPA/DC) EPA West, Room 3334, 1301 Constitution Ave., NW., Washington, DC. Copyrighted materials are available only in hard copy. The EPA Docket Center Public Reading Room is open from 8:30 a.m. to 4:30 p.m., Monday through Friday, excluding legal holidays. The telephone number for the Public Reading Room is (202) 566-1744, and the telephone number for the Water Docket is (202) 566-2426.

Abbreviations and Acronyms Used in This Action

APHA: American Public Health Association

CFR: Code of Federal Regulations

EPA: United States Environmental Protection Agency

GC: Gas Chromatography

GC/MS: Gas Chromatography/Mass Spectrometry

GWR: Ground Water Rule

NAICS: North American Industry Classification System

NEMI: National Environmental Methods Index

QC: Quality Control

SDWA: Safe Drinking Water Act

TTHM: Total trihalomethanes

VCSB: Voluntary Consensus Standard Bodies

II. Background

A. What is the purpose of this action?

In this action, EPA is approving 84 analytical methods for determining contaminant concentrations in samples collected under SDWA. Regulated parties required to sample and monitor may use either the testing methods already established in existing regulations or the alternative testing methods being approved in this action or in prior expedited approval actions. The new methods are listed along with other previously expedited methods in 40 CFR Part 141 Appendix A to Subpart C and on EPA's drinking water methods Web site at http://water.epa.gov/scitech/drinkingwater/labcert/analyticalmethods_expedited.cfm.

B. What is the basis for this action?

When EPA determines that an alternative analytical method is “equally effective” (i.e., as effective as a method that has already been promulgated in the regulations), SDWA allows EPA to approve the use of the alternative method through publication in the Federal Register. (See Section 1401(1) of SDWA.) EPA is using this streamlined approval authority to make 84 additional methods available for determining contaminant concentrations in samples collected under the SDWA. EPA has determined that, for each contaminant or group of contaminants listed in Section III, the additional testing methods being approved in this action are as effective as one or more of the testing methods already approved in the regulations for those contaminants. Section 1401(1) of SDWA states that the newly approved methods “shall be treated as an alternative for public water systems to the quality control and testing procedures listed in the regulation.” Accordingly, this action makes these additional 84 analytical methods legally available as options for meeting EPA's monitoring requirements.

This action does not add regulatory language, but does, for informational purposes, update an appendix to the regulations at 40 CFR Part 141 that lists all methods approved under Section 1401(1) of SDWA. Accordingly, while this action is not a rule, it is updating CFR text and therefore is being published in the “Final Rules” section of the Federal Register.

III. Summary of Approvals

EPA is approving 84 methods that are equally effective relative to methods previously promulgated in the regulations. By means of this notice, these 84 methods are added to Appendix A to Subpart C of 40 CFR Part 141.

A. Methods Developed by EPA

1. EPA Method 524.4 (USEPA 2013) is a gas chromatography/mass spectrometry (GC/MS) method for the determination of 21 purgeable organic compounds, which are regulated in drinking water as specified at 40 CFR 141.61(a)(1) through (21), and total trihalomethanes (TTHM), which are regulated in drinking water as specified at 40 CFR 141.64(b)(1) and (2). The method analytes are purged from the water sample using nitrogen and trapped on a sorbent material. After purging, the sorbent trap is heated and back flushed with GC carrier gas and the analytes are transferred to a capillary GC column. The analytes eluting from the GC column are directed into a mass spectrometer for detection and quantitation. The analytes are identified by comparing the acquired mass spectra and retention times for calibration standards acquired under identical GC/MS conditions. The concentration of each analyte is calculated using the internal standard technique and response curves are generated using procedural calibration standards. EPA Method 524.4 is an extension of EPA Method 524.3 (USEPA 2009a) which was approved in an earlier expedited methods approval action (74 FR 38348, August 3, 2009) (USEPA 2009b). Both EPA Methods 524.4 and 524.3 are updated versions of EPA Method 524.2, Revision 4.1 (USEPA 1995), which is currently approved at 40 CFR 141.24(e)(1) for the analysis of benzene; carbon tetrachloride; chlorobenzene; 1,2-dichlorobenzene; 1,4-dichlorobenzene; 1,2-dichloroethane; cis-dichloroethylene; trans-dichloroethylene; dichloromethane; 1,2-dichloropropane; ethylbenzene; styrene; tetrachloroethylene; 1,1,1-trichloroethane; trichloroethylene; toluene; 1,2,4-trichlorobenzene; 1,1-dichloroethylene; 1,1,2-trichloroethane; vinyl chloride; total xylenes (sum of o-xylene, m-xylene, and p-xylene) and total trihalomethanes (TTHM; sum of chloroform, bromodichloromethane, dibromochloromethane, and bromoform). EPA Method 524.2, Revision 4.1 is also approved at 40 CFR 141.131(b)(1) for TTHM. The primary difference between EPA Method 524.4 and EPA Method 524.3 lies in the purge gas. The cost of helium continues to rise and EPA Method 524.4 was developed using less expensive nitrogen gas to purge the analytes from drinking water samples instead of helium.

For each of the purgeable organic compounds and TTHM contaminants, the method performance characteristics of EPA Method 524.4 were compared to those of the approved method, EPA Method 524.2, Revision 4.1. EPA has determined EPA Method 524.4 is equally as effective as the approved method for determining the concentrations of each of the regulated purgeable organic compounds and TTHM contaminants in drinking water. The basis for this determination is discussed in detail in Smith and Wendelken (2012a). Therefore, EPA is approving the use of EPA Method 524.4 for each of the above named contaminants when analyzing drinking water compliance samples.

A copy of EPA Method 524.4 can be accessed and downloaded directly on-line at http://water.epa.gov/scitech/drinkingwater/labcert/analyticalmethods.cfm.

B. Methods Developed by Voluntary Consensus Standard Bodies (VCSB)

1. Standard Methods for the Examination of Water and Wastewater (Standard Methods). The 22nd edition of Standard Methods for the Examination of Water and Wastewater (APHA 2012) was published earlier this year. EPA compared 79 methods in the 22nd edition to earlier versions of those methods that are currently approved in 40 CFR Part 141. Changes between the approved version and the version of each method published in the 22nd edition are summarized in Smith and Wendelken (2012b) and Best (2013). The revisions primarily involve editorial changes (e.g., corrections of errors, procedural clarifications, and reorganization of text); in addition, most of the chemistry methods in the 22nd edition contain an editorial change that directs analysts to the appropriate Quality Control (QC) section that contains the QC criteria and practices that are to be followed as part of the method. The methods in the 22nd edition listed in the following table are the same as the earlier approved versions with respect to the chemistry, sample handling protocols, and method performance data. For all of these reasons, EPA has concluded that the versions in the 22nd edition are thus equally effective relative to those that are currently approved in the regulations. Therefore, EPA is approving the use of 79 updated Standard Methods in the 22nd edition for the contaminants and their respective regulations listed in the following table:

Standard method, 22nd edition (APHA 2012) | Approved method | Contaminant | Regulation
2120 B | 2120 B-01, online version (APHA 2001a) | Color | 40 CFR 143.4(b)
2130 B | 2130 B-01, online version (APHA 2001b) | Turbidity | 40 CFR 141.74(a)(1)
2150 B | 2150 B-97, online version (APHA 1997a) | Odor | 40 CFR 143.4(b)
2320 B | 2320 B-97, online version (APHA 1997b) | Alkalinity | 40 CFR 141.23(k)(1)
2510 B | 2510 B-97, online version (APHA 1997c) | Conductivity | 40 CFR 141.23(k)(1)
2540 C | 2540 C-97, online version (APHA 1997d) | Total Dissolved Solids | 40 CFR 143.4(b)
2550 | 2550-00, online version (APHA 2000a) | Temperature | 40 CFR 141.23(k)(1)
3111 B | 3111 B-99, online version (APHA 1999a) | Calcium, copper, magnesium, nickel, sodium, iron, manganese, silver, zinc | 40 CFR 141.23(k)(1); 40 CFR 143.4(b)
3111 D | 3111 D-99, online version (APHA 1999a) | Barium, aluminum | 40 CFR 141.23(k)(1); 40 CFR 143.4(b)
3112 B | 3112 B-99, online version (APHA 1999b) | Mercury | 40 CFR 141.23(k)(1)
3113 B | 3113 B, 19th Edition (APHA 1995) | Antimony, arsenic, barium, beryllium, cadmium, chromium, copper, lead, nickel, selenium, aluminum, iron, manganese, silver | 40 CFR 141.23(k)(1); 40 CFR 143.4(b)
3114 B | 3114 B-97, online version (APHA 1997e) | Arsenic, selenium | 40 CFR 141.23(k)(1)
3120 B | 3120 B-99, online version (APHA 1999c) | Barium, beryllium, calcium, chromium, copper, magnesium, nickel, silica, aluminum, iron, manganese, silver, zinc | 40 CFR 141.23(k)(1); 40 CFR 143.4(b)
3500-Ca B | 3500-Ca B-97, online version (APHA 1997f) | Calcium | 40 CFR 141.23(k)(1)
3500-Mg B | 3500-Mg B-97, online version (APHA 1997g) | Magnesium | 40 CFR 141.23(k)(1)
4110 B | 4110 B-00, online version (APHA 2000b) | Fluoride, nitrate, nitrite, ortho-phosphate, chloride, sulfate | 40 CFR 141.23(k)(1); 40 CFR 143.4(b)
4500-Cl D,F,G,H, | 4500-Cl D,F,G,H-00, online versions (APHA 2000c) | Free chlorine | 40 CFR 141.74(a)(2); 40 CFR 141.131(c)(1)
4500-Cl D,E,F,G,I | 4500-Cl D,E,F,G,I-00, online versions (APHA 2000c) | Total chlorine | 40 CFR 141.74(a)(2); 40 CFR 141.131(c)(1)
4500-Cl D,F,G, | 4500-Cl D,F,G-00, online versions (APHA 2000c) | Combined chlorine | 40 CFR 141.131(c)(1)
4500-Cl- B,D | 4500-Cl- B,D-97, online versions (APHA 1997h) | Chloride | 40 CFR 143.4(b)
4500-ClO2 C | 4500-ClO2 C-00, online version (APHA 2000d) | Chlorine Dioxide | 40 CFR 141.74(a)(2)
4500-ClO2 E | 4500-ClO2 E-00, online version (APHA 2000d) | Chlorine Dioxide | 40 CFR 141.74(a)(2); 40 CFR 141.131(c)(1)
4500-ClO2 E | 4500-ClO2 E-00, online version (APHA 2000d) | Chlorite | 40 CFR 141.131(b)(1)
4500-CN- E,F,G | 4500-CN- E,F,G-99, online versions (APHA 1999d) | Cyanide | 40 CFR 141.23(k)(1)
4500-F- B,C,D,E | 4500-F- B,C,D,E-97, online versions (APHA 1997i) | Fluoride | 40 CFR 141.23(k)(1)
4500-H+ B | 4500-H+ B-00, online version (APHA 2000e) | pH | 40 CFR 141.23(k)(1)
4500-NO3- D | 4500-NO3 D-00, online version (APHA 2000f) | Nitrate | 40 CFR 141.23(k)(1)
4500-NO3- E,F | 4500-NO3- E,F-00, online versions (APHA 2000f) | Nitrate, nitrite | 40 CFR 141.23(k)(1)
4500-NO2- B | 4500-NO2- B-00, online version (APHA 2000g) | Nitrite | 40 CFR 141.23(k)(1)
4500-O3 B | 4500-O3 B-97, online version (APHA 1997j) | Ozone | 40 CFR 141.74(a)(2)
4500-P E,F | 4500-P E,F, 19th Edition (APHA 1995) | Ortho-phosphate | 40 CFR 141.23(k)(1)
4500-SiO2 C,D,E | 4500-SiO2 C,D,E-97, online versions (APHA 1997k) | Silica | 40 CFR 141.23(k)(1)
4500-SO4²- C,D,E,F | 4500-SO4²- C,D,E,F, 19th Edition (APHA 1995) | Sulfate | 40 CFR 143.4(b)
5310 B,C,D | 5310 B,C,D-00, online versions (APHA 2000h) | Dissolved and Total Organic Carbon | 40 CFR 141.131(d)
5540 C | 5540 C-00, online version (APHA 2000i) | Foaming agents | 40 CFR 143.4(b)
5910 B | 5910 B-00, online version (APHA 2000j) | UV Absorption at 254 nm | 40 CFR 141.131(d)
6251 B | 6251 B-94, online version (APHA 1994) | HAA5 | 40 CFR 141.131(b)(1)
6610 B | EPA Method 531.2, Rev. 1.0 (2001a) | Carbofuran, oxamyl | 40 CFR 141.24(e)(1)
6640 B | EPA Method 515.4, Rev. 1.0 (2000) | 2,4-D; 2,4,5-TP; Dalapon; Dinoseb; Pentachlorophenol; Picloram | 40 CFR 141.24(e)(1)
6651 B | 6651 B, 20th Edition (APHA 1998) | Glyphosate | 40 CFR 141.24(e)(1)
7110 B | 7110 B-00, online version (APHA 2000k) | Gross alpha and beta | 40 CFR 141.25(a)
7110 C | 7110 C-00, online version (APHA 2000k) | Gross alpha | 40 CFR 141.25(a)
7120 | 7120-97, online version (APHA 1997l) | Gamma emitters (includes radioactive cesium and iodine) | 40 CFR 141.25(a)
7500-Cs B | 7500-Cs B-00, online version (APHA 2000l) | Radioactive Cesium Gamma emitters | 40 CFR 141.25(a)
7500-³H B | 7500-³H B-00, online version (APHA 2000m) | Tritium | 40 CFR 141.25(a)
7500-I B | 7500-I B-00, online version (APHA 2000n) | Radioactive Iodine Gamma emitters | 40 CFR 141.25(a)
7500-I C,D | 7500-I C,D-00, online versions (APHA 2000n) | Radioactive Iodine | 40 CFR 141.25(a)
7500-Ra B,C | 7500-Ra B,C-01, online versions (APHA 2001c) | Radium-226 | 40 CFR 141.25(a)
7500-Ra D | 7500-Ra D-01, online version (APHA 2001c) | Radium-228 | 40 CFR 141.25(a)
7500-Sr B | 7500-Sr B-01, online version (APHA 2001d) | Strontium-89, Strontium-90 | 40 CFR 141.25(a)
7500-U B,C | 7500-U B,C-00, online versions (APHA 2000o) | Uranium | 40 CFR 141.25(a)
9221 A | 9221 A, 20th Edition (APHA 1998) | Total Coliforms | 40 CFR 141.21(f)(3); 40 CFR 141.74(a)(1)
9221 B | 9221 B, 20th Edition (APHA 1998) | Total Coliforms | 40 CFR 141.21(f)(3); 40 CFR 141.74(a)(1)
9221 B.1, B.2 | 9221 B, 20th Edition (APHA 1998) | Total Coliforms | 40 CFR 141.852(a)(5)
9221 C | 9221 C, 20th Edition (APHA 1998) | Total Coliforms | 40 CFR 141.74(a)(1)
9221 E | 9221 E, 20th Edition (APHA 1998) | Fecal Coliforms | 40 CFR 141.21(f)(5); 40 CFR 141.74(a)(1)
9221 F | 9221 F, 20th Edition (APHA 1998) | E. coli | 40 CFR 141.402(c)(2)
9221 F.1 | 9221 F, 20th Edition (APHA 1998) | E. coli | 40 CFR 141.852(a)(5)
9222 D | 9222 D, 20th Edition (APHA 1998) | Fecal Coliforms | 40 CFR 141.74(a)(1)
9223 B | 9223, 20th Edition (APHA 1998) | Total Coliforms | 40 CFR 141.21(f)(3); 40 CFR 141.74(a)(1); 40 CFR 141.852(a)(5)
9223 B | 9223 B, 20th Edition (APHA 1998) | E. coli | 40 CFR 141.21(f)(6); 40 CFR 141.402(c)(2); 40 CFR 141.852(a)(5)
9215 B | 9215 B, 20th Edition (APHA 1998) | Heterotrophic Bacteria | 40 CFR 141.74(a)(1)

The 22nd edition can be obtained from the American Public Health Association (APHA), 800 I Street, NW., Washington, DC 20001-3710. Online versions of Standard Methods are available at http://www.standardmethods.org.

2. ASTM International. EPA compared the most recent versions of three ASTM International methods (ASTM Methods D516-11, D1067-11 B, and D1293-12) to the earlier versions of those methods that are currently approved in 40 CFR part 141. Changes between the earlier approved version and the most recent version of each method are summarized in Smith (2012). The revisions primarily involve editorial changes (e.g., updated references, definitions, terminology, and reorganization of text). The revised methods are the same as the approved versions with respect to sample collection and handling protocols, sample preparation, analytical methodology, and method performance data, and thus, EPA finds they are equally effective relative to the approved methods.

EPA is thus approving the use of the following ASTM methods for the contaminants and their respective regulations listed in the following table:

ASTM Revised version | Approved method | Contaminant | Regulation
D516-11 (ASTM 2011a) | D516-02 (ASTM 2002a) | Sulfate | 40 CFR 143.4(b)
D1067-11 B (ASTM 2011b) | D1067-02 B (ASTM 2002b) | Alkalinity | 40 CFR 141.23(k)(1)
D1293-12 (ASTM 2012) | D1293-99 (ASTM 1999) | pH | 40 CFR 141.23(k)(1)

The ASTM methods are available from ASTM International, 100 Barr Harbor Drive, West Conshohocken, PA 19428-2959 or http://www.astm.org.

C. Methods Developed by Vendors

1. Charm Sciences, Inc. Fast Phage (2012a) is a microbiological method for the detection of male-specific (F+) and somatic coliphages in ground water by a two-step enrichment procedure. Coliphages are detected as being present or absent in 100 mL samples of ground water by the formation of plaques on agar plates containing the host bacterium. Fast Phage includes a presumptive rapid fluorescence step that can predict coliphage positive samples in less than eight hours.

EPA Method 1601 (USEPA 2001b) is currently approved under the Ground Water Rule (GWR) at 40 CFR 141.402(c)(2) for the detection of coliphages in ground water source waters. Fast Phage is similar to EPA Method 1601 but has modifications to the medium and incubation temperature, which make the method more rapid. Fast Phage is able to detect coliphages in 16 to 30 hours compared to 40 to 60 hours for EPA Method 1601. Additionally, Fast Phage includes kits, which supply the medium, antibiotics and freeze-dried host bacteria in a pre-packaged and standardized form for easier use.

A multi-laboratory study was conducted to compare the method performance of Fast Phage to the performance of the approved method, EPA Method 1601. Three geographically diverse wastewaters were used as sources of somatic and male-specific coliphages for the study. In four different laboratories, Fast Phage was compared side by side with EPA Method 1601 for somatic and male-specific coliphage detection in local ground waters that were inoculated with low level coliphages from each of the test wastewaters. Ten replicates of inoculated ground waters were evaluated for both Fast Phage and EPA Method 1601, and each test wastewater was evaluated as an inoculant. The study report (Charm Sciences Inc. 2012b) details the study design and implementation along with the validation data obtained from the multi-laboratory evaluation. The results of the multi-laboratory studies indicate that Fast Phage is equally as effective as EPA Method 1601 in method performance for detecting male-specific and somatic coliphages in ground water. The basis for this determination is discussed in Sinclair (2013). EPA is thus approving Fast Phage as an alternate method to EPA Method 1601 for the detection of male-specific and somatic coliphages in ground water under the Ground Water Rule.

The Fast Phage method is available from Charm Sciences, Inc., 659 Andover Street, Lawrence, MA 01843, and also at www.charmsciences.com.

IV. Statutory and Executive Order Reviews

As noted in Section II, under the terms of SDWA Section 1401(1), this streamlined method approval action is not a rule. Accordingly, the Congressional Review Act, 5 U.S.C. 801 et seq., as added by the Small Business Regulatory Enforcement Fairness Act of 1996, does not apply because this action is not a rule for purposes of 5 U.S.C. 804(3). Similarly, this action is not subject to the Regulatory Flexibility Act because it is not subject to notice and comment requirements under the Administrative Procedure Act or any other statute. In addition, because this approval action is not a rule but simply makes alternative testing methods available as options for monitoring under SDWA, EPA has concluded that other statutes and executive orders generally applicable to rulemaking do not apply to this approval action.

V. References

American Public Health Association (APHA). 1994. Standard Method 6251 B-94. Disinfection By-Products: Haloacetic Acids and Trichlorophenol. Micro Liquid-Liquid Extraction Gas Chromatographic Method. Approved by Standard Methods Committee 1994. Standard Methods Online. (Available at http://www.standardmethods.org.)

American Public Health Association (APHA). 1995. 19th Edition of Standard Methods for the Examination of Water and Wastewater, American Public Health Association, 800 I Street NW., Washington, DC 20001-3710.

American Public Health Association (APHA). 1997a. Standard Method 2150 B-97. Threshold Odor Test. Approved by Standard Methods Committee 1997. Standard Methods Online. (Available at http://www.standardmethods.org.)

American Public Health Association (APHA). 1997b. Standard Method 2320 B-97. Alkalinity. Titration Method. Approved by Standard Methods Committee 1997. Standard Methods Online. (Available at http://www.standardmethods.org.)

American Public Health Association (APHA). 1997c. Standard Method 2510 B-97. Conductivity. Laboratory Method. Approved by Standard Methods Committee 1997. Standard Methods Online. (Available at http://www.standardmethods.org.)

American Public Health Association (APHA). 1997d. Standard Method 2540 C-97. Total Dissolved Solids Dried at 180°C. Approved by Standard Methods Committee 1997. Standard Methods Online. (Available at http://www.standardmethods.org.)

American Public Health Association (APHA). 1997e. Standard Method 3114 B-97. Arsenic and Selenium by Hydride Generation/Atomic Absorption Spectrometry. Manual Hydride Generation/Atomic Absorption Spectrometric Method. Approved by Standard Methods Committee 1997. Standard Methods Online. (Available at http://www.standardmethods.org.)

American Public Health Association (APHA). 1997f. Standard Method 3500-Ca B-97. Calcium. EDTA Titrimetric Method. Approved by Standard Methods Committee 1997. Standard Methods Online. (Available at http://www.standardmethods.org.)

American Public Health Association (APHA). 1997g. Standard Method 3500-Mg B-97. Magnesium. Calculation Method. Approved by Standard Methods Committee 1997. Standard Methods Online. (Available at http://www.standardmethods.org.)

American Public Health Association (APHA). 1997h. Standard Method 4500-Cl-B,D-97. Chloride. B. Potentiometric Method. D. Potentiometric Method. Approved by Standard Methods Committee 1997. Standard Methods Online. (Available at http://www.standardmethods.org.)

American Public Health Association (APHA). 1997i. Standard Method 4500-F-B,C,D,E-97. Fluoride. B. Preliminary Distillation Step. C. Ion-Selective Electrode Method. D. SPADNS Method. E. Complexone Method. Approved by Standard Methods Committee 1997. Standard Methods Online. (Available at http://www.standardmethods.org.)

American Public Health Association (APHA). 1997j. Standard Method 4500-O3 B-97. Ozone (Residual). Indigo Colorimetric Method. Approved by Standard Methods Committee 1997. Standard Methods Online. (Available at http://www.standardmethods.org.)

American Public Health Association (APHA). 1997k. Standard Method 4500-SiO2 C,D,E-97. Silica. C. Molybdosilicate Method. D. Heteropoly Blue Method. E. Automated Method for Molybdate-Reactive Silica. Approved by Standard Methods Committee 1997. Standard Methods Online. (Available at http://www.standardmethods.org.)

American Public Health Association (APHA). 1997l. Standard Method 7120 B-97. Gamma Emitting-Radionuclides. Gamma Spectroscopic Method. Approved by Standard Methods Committee 1997. Standard Methods Online. (Available at http://www.standardmethods.org.)

American Public Health Association (APHA). 1998. 20th Edition of Standard Methods for the Examination of Water and Wastewater, American Public Health Association, 800 I Street NW., Washington, DC 20001-3710.

American Public Health Association (APHA). 1999a. Standard Method 3111 B,D-99. Metals by Flame Atomic Absorption Spectrometry. B. Direct Air-Acetylene Flame Method. D. Direct Nitrous Oxide-Acetylene Flame Method. Approved by Standard Methods Committee 1999. Standard Methods Online. (Available at http://www.standardmethods.org.)

American Public Health Association (APHA). 1999b. Standard Method 3112 B-99. Metals by Cold-Vapor Atomic Absorption Spectrometry. Cold-Vapor Atomic Absorption Spectrometric Method. Approved by Standard Methods Committee 1999. Standard Methods Online. (Available at http://www.standardmethods.org.)

American Public Health Association (APHA). 1999c. Standard Method 3120 B-99. Metals by Plasma Emission Spectroscopy. Inductively Coupled Plasma (ICP) Method. Approved by Standard Methods Committee 1999. Standard Methods Online. (Available at http://www.standardmethods.org.)

American Public Health Association (APHA). 1999d. Standard Method 4500-CN-E,F,G-99. Cyanide. E. Colorimetric Method. F. Cyanide-Selective Electrode Method. G. Cyanides Amenable to Chlorination after Distillation. Approved by Standard Methods Committee 1999. Standard Methods Online. (Available at http://www.standardmethods.org.)

American Public Health Association (APHA). 2000a. Standard Method 2550-00. Temperature. Approved by Standard Methods Committee 2000. Standard Methods Online. (Available at http://www.standardmethods.org.)

American Public Health Association (APHA). 2000b. Standard Method 4110 B-00. Fluoride, Nitrate, Nitrite, ortho-Phosphate, Chloride, Sulfate. Determination of Anions by Ion Chromatography. Ion Chromatography with Chemical Suppression of Eluent Conductivity. Approved by Standard Methods Committee 2000. Standard Methods Online. (Available at http://www.standardmethods.org.)

American Public Health Association (APHA). 2000c. Standard Method 4500-Cl D,E,F,G,H, I-00. Chlorine (Residual). D. Amperometric Titration Method. E. Low-Level Amperometric Titration Method. F. DPD Ferrous Titrimetric Method. G. DPDColorimetric Method. H. Syringaldazine (FACTS) Method. I. Iodometric Electrode Technique. Approved by Standard Methods Committee 2000. Standard Methods Online. (Available at http://www.standardmethods.org.)

American Public Health Association (APHA). 2000d. Standard Method 4500-ClO2 C,E-00. Chlorine Dioxide. C. Amperometric Method I. E. Amperometric Method II. Approved by Standard Methods Committee 2000. Standard Methods Online. (Available at http://www.standardmethods.org.)

American Public Health Association (APHA). 2000e. Standard Method 4500-H+ B-00. pH Value. Electrometric Method. Approved by Standard Methods Committee 2000. Standard Methods Online. (Available at http://www.standardmethods.org.)

American Public Health Association (APHA). 2000f. Standard Method 4500-NO3− D,E,F-00. Nitrogen (Nitrate). D. Nitrate Electrode Method. E. Cadmium Reduction Method. F. Automated Cadmium Reduction Method. Approved by Standard Methods Committee 2000. Standard Methods Online. (Available at http://www.standardmethods.org.)

American Public Health Association (APHA). 2000g. Standard Method 4500-NO2− B-00. Nitrogen (Nitrite). Colorimetric Method. Approved by Standard Methods Committee 2000. Standard Methods Online. (Available at http://www.standardmethods.org.)

American Public Health Association (APHA). 2000h. Standard Method 5310 B,C,D-00. Total Organic Carbon (TOC). B. High-Temperature Combustion Method. C. Persulfate-Ultraviolet or Heated Persulfate Oxidation Method. D. Wet-Oxidation Method. Approved by Standard Methods Committee 2000. Standard Methods Online. (Available at http://www.standardmethods.org.)

American Public Health Association (APHA). 2000i. Standard Method 5540 C-00. Surfactants. Anionic Surfactants as MBAs. Approved by Standard Methods Committee 2000. Standard Methods Online. (Available at http://www.standardmethods.org.)

American Public Health Association (APHA). 2000j. Standard Method 5910 B-00. UV-Absorbing Organic Constituents. Ultraviolet Absorption Method. Approved by Standard Methods Committee 2000. Standard Methods Online. (Available at http://www.standardmethods.org.)

American Public Health Association (APHA). 2000k. Standard Method 7110 B,C-00. Gross Alpha and Gross Beta Radioactivity (Total, Suspended, and Dissolved). B. Evaporation Method for Gross Alpha-Beta. C. Coprecipitation Method for Alpha Radioactivity in Drinking Water. Approved by Standard Methods Committee 2000. Standard Methods Online. (Available at http://www.standardmethods.org.)

American Public Health Association (APHA). 2000l. Standard Method 7500-Cs B-00. Radioactive Cesium. Precipitation Method. Approved by Standard Methods Committee 2000. Standard Methods Online. (Available at http://www.standardmethods.org.)

American Public Health Association (APHA). 2000m. Standard Method 7500-³H B-00. Tritium. Liquid Scintillation Spectrometric Method. Approved by Standard Methods Committee 2000. Standard Methods Online. (Available at http://www.standardmethods.org.)

American Public Health Association (APHA). 2000n. Standard Method 7500-I B,C,D-00. Radioactive Iodine. B. Precipitation Method. C. Ion-Exchange Method. D. Distillation Method. Approved by Standard Methods Committee 2000. Standard Methods Online. (Available at http://www.standardmethods.org.)

American Public Health Association (APHA). 2000o. Standard Method 7500-U B,C-00. Uranium. B. Radiochemical Method. C. Isotopic Method. Approved by Standard Methods Committee 2000. Standard Methods Online. (Available at http://www.standardmethods.org.)

American Public Health Association (APHA). 2001a. Standard Method 2120 B-01. Color. Visual Comparison Method. Approved by Standard Methods Committee 2001. Standard Methods Online. (Available at http://www.standardmethods.org.)

American Public Health Association (APHA). 2001b. Standard Method 2130 B-01. Turbidity. Nephelometric Method. Approved by Standard Methods Committee 2001. Standard Methods Online. (Available at http://www.standardmethods.org.)

American Public Health Association (APHA). 2001c. Standard Method 7500-Ra B,C,D-01. Radium. B. Precipitation Method. C. Emanation Method. D. Sequential Precipitation Method. Approved by Standard Methods Committee 2001. Standard Methods Online. (Available at http://www.standardmethods.org.)

American Public Health Association (APHA). 2001d. Standard Method 7500-Sr B-01. Total Radioactive Strontium and Strontium-90. Precipitation Method. Approved by Standard Methods Committee 2001. Standard Methods Online. (Available at http://www.standardmethods.org.)

American Public Health Association (APHA). 2012. 22nd Edition of Standard Methods for the Examination of Water and Wastewater, American Public Health Association, 800 I Street NW., Washington, DC 20001-3710.

ASTM International. 1999. ASTM D1293-99. Standard Test Methods for pH of Water. ASTM International, 100 Barr Harbor Drive, West Conshohocken, PA 19428-2959. (Available at http://www.astm.org.)

ASTM International. 2002a. ASTM D516-02. Standard Test Method for Sulfate Ion in Water. ASTM International, 100 Barr Harbor Drive, West Conshohocken, PA 19428-2959. (Available at http://www.astm.org.)

ASTM International. 2002b. ASTM D1067-02 B. Standard Test Methods for Acidity or Alkalinity of Water. Electrometric or Color-Change Titration. ASTM International, 100 Barr Harbor Drive, West Conshohocken, PA 19428-2959. (Available at http://www.astm.org.)

ASTM International. 2011a. ASTM D516-11. Standard Test Method for Sulfate Ion in Water. ASTM International, 100 Barr Harbor Drive, West Conshohocken, PA 19428-2959. (Available at http://www.astm.org.)

ASTM International. 2011b. ASTM D1067-11 B. Standard Test Methods for Acidity or Alkalinity of Water. Electrometric or Color-Change Titration. ASTM International, 100 Barr Harbor Drive, West Conshohocken, PA 19428-2959. (Available at http://www.astm.org.)

ASTM International. 2012. ASTM D1293-12. Standard Test Methods for pH of Water. ASTM International, 100 Barr Harbor Drive, West Conshohocken, PA 19428-2959. (Available at http://www.astm.org.)

Best, J. 2012. Memo to the record describing basis for expedited approval of micro methods from the 22nd edition of Standard Methods for the Examination of Water and Wastewater. January 6, 2013.

Charm Sciences Inc. 2012a. Fast Phage Test Procedure. Presence/Absence for Coliphage in Ground Water with Same Day Positive Prediction. Version 009. November 28, 2012. 659 Andover Street, Lawrence, MA 01843. (Available at www.charmsciences.com).

Charm Sciences Inc. 2012b. ATP Study Report of Modified Method 1601 (Fast Phage) for Somatic and Male-Specific Coliphage. ATP Case Study D09-0007. August 22, 2012. 659 Andover Street, Lawrence, MA 01843.

Sinclair, J. 2013. Memo to the record describing basis for expedited approval of Charm Sciences Fast Phage. April 2, 2013.

Smith, G. 2012. Memo to the record describing basis for expedited approval of updated methods from ASTM International. November 19, 2012.

Smith, G. and Wendelken, S. 2012a. Memo to the record describing basis for expedited approval of EPA Method 524.4. November 19, 2012.

Smith, G. and Wendelken, S. 2012b. Memo to the record describing basis for expedited approval of methods from the 22nd edition of Standard Methods for the Examination of Water and Wastewater. November 26, 2012.

USEPA. 1995. EPA Method 524.2, Revision 4.1, “Measurement of Purgeable Organic Compounds in Water by Capillary Column Gas Chromatography/Mass Spectrometry” in Methods for the Determination of Organic Compounds in Drinking Water—Supplement III, EPA/600/R-95-131. (Available at https://www.nemi.gov.)

USEPA. 2000. EPA Method 514.4, Revision 1.0, “Determination of Chlorinated Acids in Drinking Water by Liquid-Liquid Microextraction, Derivatization and Fast Gas Chromatography with Electron Capture Detection,” EPA/815/B-00/001, April 2000. (Available at https://www.nemi.gov.)

USEPA. 2001a. EPA Method 531.2, Revision 1.0, “Measurement of N-methylcarbamoyloximes and N-methylcarbamates in Water by Direct Aqueous Injection HPLC with Postcolumn Derivatization,” EPA 815-B-01-002, September 2001. (Available at https://www.nemi.gov.)

USEPA. 2001b. EPA Method 1601, “Male-specific (F+) and Somatic Coliphage in Water by Two-step Enrichment Procedure”, EPA-821-R-01-030, April 2001. (Available at http://www.epa.gov/nerlcwww/online.html.)

USEPA. 2009a. EPA Method 524.3, Version 1.0, “Measurement of Purgeable Organic Compounds in Water by Capillary Column Gas Chromatography/Mass Spectrometry”, EPA-815-B-09-009, June 2009. (Available at http://water.epa.gov/drink.)

USEPA. 2009b. Expedited Approval of Test Procedures for the Analysis of Contaminants Under the Safe Drinking Water Act; Analysis and Sampling Procedures. 74 FR 38348. August 3, 2009.

USEPA. 2013. EPA Method 524.4, Version 1.0, “Measurement of Purgeable Organic Compounds in Water by Gas Chromatography/Mass Spectrometry using Nitrogen Purge Gas”, EPA 815-R-13-002, May 2013. (Available at http://water.epa.gov/drink.)

Expedited Approval of Alternative Test Procedures for the Analysis of Contaminants Under the Safe Drinking Water Act; Analysis and Sampling Procedures, page 27 of 54

List of Subjects in 40 CFR Part 141

Environmental protection, Chemicals, Indians-lands, Intergovernmental relations, Radiation protection, Reporting and recordkeeping requirements, Water supply.

Dated: May 21, 2013.
Peter Grevatt,
Director, Office of Ground Water and Drinking Water.

For the reasons stated in the preamble, 40 CFR Part 141 is amended as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

2. Appendix A to Subpart C of Part 141 is amended as follows:

a. By revising the entire table entitled “ALTERNATIVE TESTING METHODS FOR CONTAMINANTS LISTED AT 40 CFR 141.21(f)(3).”

b. By adding the table entitled “ALTERNATIVE TESTING METHODS FOR CONTAMINANTS LISTED AT 40 CFR 141.21(f)(5)” after the table entitled “ALTERNATIVE TESTING METHODS FOR CONTAMINANTS LISTED AT 40 CFR 141.21(f)(3).”

c. By revising the table entitled “ALTERNATIVE TESTING METHODS FOR CONTAMINANTS LISTED AT 40 CFR 141.21(f)(6).”

d. By revising the table entitled “ALTERNATIVE TESTING METHODS FOR CONTAMINANTS LISTED AT 40 CFR 141.23(k)(1).”

e. By revising the table entitled “ALTERNATIVE TESTING METHODS FOR CONTAMINANTS LISTED AT 40 CFR 141.24(e)(1).”

f. By revising the table entitled “ALTERNATIVE TESTING METHODS FOR CONTAMINANTS LISTED AT 40 CFR 141.25(a).”

g. By revising the table entitled “ALTERNATIVE TESTING METHODS FOR CONTAMINANTS LISTED AT 40 CFR 141.74(a)(1).”

h. By revising the table entitled “ALTERNATIVE TESTING METHODS FOR DISINFECTANT RESIDUALS LISTED AT 40 CFR 141.74(a)(2).”

i. By revising the table entitled “ALTERNATIVE TESTING METHODS FOR CONTAMINANTS LISTED AT 40 CFR 141.131(b)(1).”

j. By revising the table entitled “ALTERNATIVE TESTING METHODS FOR DISINFECTANT RESIDUALS LISTED AT 40 CFR 141.131(c)(1).”

k. By revising the table entitled “ALTERNATIVE TESTING METHODS FOR PARAMETERS LISTED AT 40 CFR 141.131(d).”

l. By revising the table entitled “ALTERNATIVE TESTING METHODS FOR CONTAMINANTS LISTED AT 40 CFR 141.402(c)(2).”

m. By adding the table entitled “ALTERNATIVE TESTING METHODS FOR CONTAMINANTS LISTED AT 40 CFR 141.852(a)(5)” after the table entitled “ALTERNATIVE TESTING METHODS FOR CONTAMINANTS LISTED AT 40 CFR 141.704(b).”

n. By revising the table entitled “ALTERNATIVE TESTING METHODS FOR CONTAMINANTS LISTED AT 40 CFR 143.4(b).”

o. By revising footnotes 19, 20, and 21.

p. By adding footnotes 24 through 30 to the table.

The additions and revisions read as follows:

Appendix A to Subpart C of Part 141—Alternative Testing Methods Approved for Analyses Under the Safe Drinking Water Act

* * * * *

Alternative Testing Methods for Contaminants Listed at 40 CFR 141.21(f)(3)
Organism | Methodology | SM 21st Edition ¹ | SM 22nd Edition ²⁸ | Other
Total Coliforms | Total Coliform Fermentation Technique | 9221 A, B | 9221 A, B
| Total Coliform Membrane Filter Technique | 9222 A, B, C
| Presence-Absence (P-A) Coliform Test | 9221 D
| ONPG-MUG Test | 9223 | 9223 B
| Colitag™ |  |  | Modified Colitag™ ¹³

Alternative Testing Methods for Contaminants Listed at 40 CFR 141.21(f)(5)
Organism | Methodology | SM 22nd edition ²⁸
Fecal Coliforms | Fecal Coliform Procedure | 9221 E.

Alternative Testing Methods for Contaminants Listed at 40 CFR 141.21(f)(6)
Organism | Methodology | SM 20th Edition ⁶ | SM 21st Edition ¹ | SM 22nd Edition ²⁸ | SM Online ³ | Other
E.coli | ONPG-MUG Test | 9223 B | 9223 B | 9223 B | 9223 B-97
| Colitag™ |  |  |  |  | Modified Colitag.¹³ ™

Alternative Testing Methods for Contaminants Listed at 40 CFR 141.23(k)(1)
Contaminant | Methodology | EPA method | SM 21st edition ¹ | SM 22nd edition ²⁸ | SM online ³ | ASTM ⁴ | Other
Alkalinity | Titrimetric |  | 2320 B | 2320 B |  | D1067-06 B, 11 B
Antimony | Hydride—Atomic Absorption |  |  |  |  | D 3697-07
| Atomic Absorption; Furnace |  | 3113 B | 3113 B | 3113 B-04
| Axially viewed inductively coupled plasma-atomic emission spectrometry (AVICP-AES) | 200.5, Revision 4.2 ²
Arsenic | Atomic Absorption; Furnace |  | 3113 B | 3113 B | 3113 B-04 | D 2972-08 C
| Hydride Atomic Absorption |  | 3114 B | 3114 B | 3114 B-09 | D 2972-08 B
| Axially viewed inductively coupled plasma-atomic emission spectrometry (AVICP-AES) | 200.5, Revision 4.2 ²
Barium | Inductively Coupled Plasma |  | 3120 B | 3120 B
| Atomic Absorption; Direct |  | 3111 D | 3111 D
| Atomic Absorption; Furnace |  | 3113 B | 3113 B | 3113 B-04
| Axially viewed inductively coupled plasma-atomic emission spectrometry (AVICP-AES) | 200.5, Revision 4.2 ²
Beryllium | Inductively Coupled Plasma |  | 3120 B | 3120 B
| Atomic Absorption; Furnace |  | 3113 B | 3113 B | 3113 B-04 | D 3645-08 B
| Axially viewed inductively coupled plasma-atomic emission spectrometry (AVICP-AES) | 200.5, Revision 4.2 ²
Cadmium | Atomic Absorption; Furnace |  | 3113 B | 3113 B | 3113 B-04
| Axially viewed inductively coupled plasma-atomic emission spectrometry (AVICP-AES) | 200.5, Revision 4.2 ²
Calcium | EDTA titrimetric |  | 3500-Ca B | 3500-Ca B |  | D 511-09 A
| Atomic Absorption; Direct Aspiration |  | 3111 B | 3111 B |  | D 511-09 B
| Inductively Coupled Plasma |  | 3120 B | 3120 B
| Axially viewed inductively coupled plasma-atomic emission spectrometry (AVICP-AES) | 200.5, Revision 4.2 ²
| Ion Chromatography |  |  |  |  | D 6919-09 |
Chromium | Inductively Coupled Plasma |  | 3120 B | 3120 B
| Atomic Absorption; Furnace |  | 3113 B | 3113 B | 3113 B-04
| Axially viewed inductively coupled plasma-atomic emission spectrometry (AVICP-AES) | 200.5, Revision 4.2 ²
Copper | Atomic Absorption; Furnace |  | 3113 B | 3113 B | 3113 B-04 | D 1688-07 C
| Atomic Absorption; Direct Aspiration |  | 3111 B | 3111 B |  | D 1688-07 A
| Inductively Coupled Plasma |  | 3120 B | 3120 B
| Axially viewed inductively coupled plasma-atomic emission spectrometry (AVICP-AES) | 200.5, Revision 4.2 ²
Conductivity | Conductance |  | 2510 B | 2510 B
Cyanide | Manual Distillation followed by |  |  |  |  | D 2036-06 A
| Spectrophotometric, Amenable |  | 4500-CN− G | 4500-CN− G |  | D 2036-06 B
| Spectrophotometric Manual |  | 4500-CN− E | 4500-CN− E |  | D2036-06 A
| Selective Electrode |  | 4500-CN− F | 4500-CN− F
| Headspace Gas Chromatography/Mass Spectrometry |  |  |  |  |  | ME355.01 ⁷
Fluoride | Ion Chromatography |  | 4110 B | 4110 B
| Manual Distillation; Colorimetric SPADNS |  | 4500-F− B, D | 4500-F− B, D
| Manual Electrode |  | 4500-F− C | 4500-F− C |  | D 1179-04, 10 B
| Automated Alizarin |  | 4500-F− E | 4500-F− E
| Arsenite-Free Colorimetric SPADNS |  |  |  |  |  | Hach SPADNS 2 Method 10225.²²
Lead | Atomic Absorption; Furnace |  | 3113 B | 3113 B | 3113 B-04 | D 3559-08 D
| Axially viewed inductively coupled plasma-atomic emission spectrometry (AVICP-AES) | 200.5, Revision 4.2 ²
Magnesium | Atomic Absorption |  | 3111 B | 3111 B |  | D 511-09 B
| Inductively Coupled Plasma |  | 3120 B | 3120 B
| Complexation Titrimetric Methods |  | 3500-Mg B | 3500-Mg B |  | D 511-09 A
| Axially viewed inductively coupled plasma-atomic emission spectrometry (AVICP-AES) | 200.5, Revision 4.2 ²
| Ion Chromatography |  |  |  |  | D 6919-09
Mercury | Manual, Cold Vapor |  | 3112 B | 3112 B | 3112 B-09
Nickel | Inductively Coupled Plasma |  | 3120 B | 3120 B
| Atomic Absorption; Direct |  | 3111 B | 3111 B
| Atomic Absorption; Furnace |  | 3113 B | 3113 B | 3113 B-04
| Axially viewed inductively coupled plasma-atomic emission spectrometry (AVICP-AES) | 200.5, Revision 4.2 ²
Nitrate | Ion Chromatography |  | 4110 B | 4110 B
| Automated Cadmium Reduction |  | 4500-NO3− F | 4500-NO3− F.
| Manual Cadmium Reduction |  | 4500-NO3− E | 4500-NO3− E
| Ion Selective Electrode |  | 4500-NO3− D | 4500-NO3− D.
| Reduction/Colorimetric |  |  |  |  |  | Systea Easy (1-Reagent).⁸
| Colorimetric; Direct |  |  |  |  |  | Hach TNTplus™ 835/836 Method 10206.²³
Nitrite | Ion Chromatography |  | 4110 B | 4110 B
| Automated Cadmium Reduction |  | 4500-NO3− F | 4500-NO3− F.
| Manual Cadmium Reduction |  | 4500-NO3− E | 4500-NO3− E.
| Spectrophotometric |  | 4500-NO2− B | 4500-NO2− B.
| Reduction/Colorimetric |  |  |  |  |  | Systea Easy (1-Reagent).⁸
Orthophosphate | Ion Chromatography |  | 4110 B | 4110 B
| Colorimetric, ascorbic acid, single reagent |  | 4500-P E | 4500-P E | 4500-P E-99
| Colorimetric, Automated, Ascorbic Acid |  | 4500-P F | 4500-P F | 4500-P F-99
pH | Electrometric |  | 4500-H+ B | 4500-H+ B |  | D 1293-12
Selenium | Hydride-Atomic Absorption |  | 3114 B | 3114 B | 3114 B-09 | D 3859-08 A
| Atomic Absorption; Furnace |  | 3113 B | 3113 B | 3113 B-04 | D 3859-08 B
| Axially viewed inductively coupled plasma-atomic emission spectrometry (AVICP-AES) | 200.5, Revision 4.2 ²
Silica | Colorimetric |  |  |  |  | D859-05, 10
| Molybdosilicate |  | 4500-SiO2 C | 4500-SiO2 C.
| Heteropoly blue |  | 4500-SiO2 D | 4500-SiO2 D.
| Automated for Molybdate-reactive Silica |  | 4500-SiO2 E | 4500-SiO2 E.
| Axially viewed inductively coupled plasma-atomic emission spectrometry (AVICP-AES) | 200.5, Revision 4.2 ²
| Inductively Coupled Plasma |  | 3120 B | 3120 B
Sodium | Atomic Absorption; Direct Aspiration |  | 3111 B | 3111 B
| Axially viewed inductively coupled plasma-atomic emission spectrometry (AVICP-AES) | 200.5, Revision 4.2 ²
| Ion Chromatography |  |  |  |  | D 6919-09
Temperature | Thermometric |  | 2550 | 2550

Alternative Testing Methods for Contaminants Listed at 40 CFR 141.24(e)(1)
Contaminant | Methodology | EPA method | SM 21st edition ¹ | SM 22nd edition ²⁸ | SM online ³
Benzene | Purge & trap/Gas Chromatography/Mass Spectrometry | 524.3,⁹ 524.4 ²⁹ |  |  |
Carbon tetrachloride | Purge & trap/Gas Chromatography/Mass Spectrometry | 524.3,⁹ 524.4 ²⁹ |  |  |
Chlorobenzene | Purge & trap/Gas Chromatography/Mass Spectrometry | 524.3,⁹ 524.4 ²⁹ |  |  |
1,2-Dichlorobenzene | Purge & trap/Gas Chromatography/Mass Spectrometry | 524.3,⁹ 524.4 ²⁹ |  |  |
1,4-Dichlorobenzene | Purge & trap/Gas Chromatography/Mass Spectrometry | 524.3,⁹ 524.4 ²⁹ |  |  |
1,2-Dichloroethane | Purge & trap/Gas Chromatography/Mass Spectrometry | 524.3,⁹ 524.4 ²⁹ |  |  |
cis-Dichloroethylene | Purge & trap/Gas Chromatography/Mass Spectrometry | 524.3,⁹ 524.4 ²⁹ |  |  |
trans-Dichloroethylene | Purge & trap/Gas Chromatography/Mass Spectrometry | 524.3,⁹ 524.4 ²⁹ |  |  |
Dichloromethane | Purge & trap/Gas Chromatography/Mass Spectrometry | 524.3,⁹ 524.4 ²⁹ |  |  |
1,2-Dichloropropane | Purge & trap/Gas Chromatography/Mass Spectrometry | 524.3,⁹ 524.4 ²⁹ |  |  |
Ethylbenzene | Purge & trap/Gas Chromatography/Mass Spectrometry | 524.3,⁹ 524.4 ²⁹ |  |  |
Styrene | Purge & trap/Gas Chromatography/Mass Spectrometry | 524.3,⁹ 524.4 ²⁹ |  |  |
Tetrachloroethylene | Purge & trap/Gas Chromatography/Mass Spectrometry | 524.3,⁹ 524.4 ²⁹ |  |  |
1,1,1-Trichloroethane | Purge & trap/Gas Chromatography/Mass Spectrometry | 524.3,⁹ 524.4 ²⁹ |  |  |
Trichloroethylene | Purge & trap/Gas Chromatography/Mass Spectrometry | 524.3,⁹ 524.4 ²⁹ |  |  |
Toluene | Purge & trap/Gas Chromatography/Mass Spectrometry | 524.3,⁹ 524.4 ²⁹ |  |  |
1,2,4-Trichlorobenzene | Purge & trap/Gas Chromatography/Mass Spectrometry | 524.3,⁹ 524.4 ²⁹ |  |  |
1,1-Dichloroethylene | Purge & trap/Gas Chromatography/Mass Spectrometry | 524.3,⁹ 524.4 ²⁹ |  |  |
1,1,2-Trichlorethane | Purge & trap/Gas Chromatography/Mass Spectrometry | 524.3,⁹ 524.4 ²⁹ |  |  |
Vinyl chloride | Purge & trap/Gas Chromatography/Mass Spectrometry | 524.3,⁹ 524.4 ²⁹ |  |  |
Xylenes (total) | Purge & trap/Gas Chromatography/Mass Spectrometry | 524.3,⁹ 524.4 ²⁹ |  |  |
2,4-D | Gas Chromatography/Electron Capture Detection (GC/ECD) |  | 6640 B | 6640 B | 6640 B-01.
2,4,5-TP (Silvex) | Gas Chromatography/Electron Capture Detection (GC/ECD) |  | 6640 B | 6640 B | 6640 B-01.
Alachlor | Solid Phase Extraction/Gas Chromatography/Mass Spectrometry (GC/MS) | 525.3 ²⁴ |  |  |
Atrazine | Liquid Chromatography Electrospray Ionization Tandem Mass Spectrometry (LC/ESI-MS/MS) | 536 ²⁵ |  |  |
| Solid Phase Extraction/Gas Chromatography/Mass Spectrometry (GC/MS) | 525.3, ²⁴ 523 ²⁶ |  |  |
Benzo(a)pyrene | Solid Phase Extraction/Gas Chromatography/Mass Spectrometry (GC/MS) | 525.3 ²⁴ |  |  |
Carbofuran | High-performance liquid chromatography (HPLC) with post-column derivatization and fluorescence detection |  | 6610 B | 6610 B | 6610 B-04.
Chlordane | Solid Phase Extraction/Gas Chromatography/Mass Spectrometry (GC/MS) | 525.3 ²⁴ |  |  |
Dalapon | Ion Chromatography Electrospray Ionization Tandem Mass Spectrometry (IC-ESI-MS/MS) | 557 ¹⁴ |  |  |
| Gas Chromatography/Electron Capture Detection (GC/ECD) |  | 6640 B | 6640 B | 6640 B-01.
Di(2-ethylhexyl)adipate | Solid Phase Extraction/Gas Chromatography/Mass Spectrometry (GC/MS) | 525.3 ²⁴ |  |  |
Di(2-ethylhexyl)phthalate | Solid Phase Extraction/Gas Chromatography/Mass Spectrometry (GC/MS) | 525.3 ²⁴ |  |  |
Dibromochloropropane (DBCP) | Purge & trap/Gas Chromatography/Mass Spectrometry | 524.3 ⁹ |  |  |
Dinoseb | Gas Chromatography/Electron Capture Detection (GC/ECD) |  | 6640 B | 6640 B | 6640 B-01.
Endrin | Solid Phase Extraction/Gas Chromatography/Mass Spectrometry (GC/MS) | 525.3 ²⁴ |  |  |
Ethyl dibromide (EDB) | Purge & trap/Gas Chromatography/Mass Spectrometry | 524.3 ⁹ |  |  |
Glyphosate | High-Performance Liquid Chromatography (HPLC) with Post-Column Derivatization and Fluorescence Detection |  | 6651 B | 6651 B | 6651 B-00.
Heptachlor | Solid Phase Extraction/Gas Chromatography/Mass Spectrometry (GC/MS) | 525.3 ²⁴ |  |  |
Heptachlor Epoxide | Solid Phase Extraction/Gas Chromatography/Mass Spectrometry (GC/MS) | 525.3 ²⁴ |  |  |
Hexachlorobenzene | Solid Phase Extraction/Gas Chromatography/Mass Spectrometry (GC/MS) | 525.3 ²⁴ |  |  |
Hexachlorocyclo-pentadiene | Solid Phase Extraction/Gas Chromatography/Mass Spectrometry (GC/MS) | 525.3 ²⁴ |  |  |
Lindane | Solid Phase Extraction/Gas Chromatography/Mass Spectrometry (GC/MS) | 525.3 ²⁴ |  |  |
Methoxychlor | Solid Phase Extraction/Gas Chromatography/Mass Spectrometry (GC/MS) | 525.3 ²⁴ |  |  |
Oxamyl | High-performance liquid chromatography (HPLC) with post-column derivatization and fluorescence detection |  | 6610 B | 6610 B | 6610 B-04.
PCBs (as Aroclors) | Solid Phase Extraction/Gas Chromatography/Mass Spectrometry (GC/MS) | 525.3 ²⁴ |  |  |
Pentachlorophenol | Gas Chromatography/Electron Capture Detection (GC/ECD) |  | 6640 B | 6640 B | 6640 B-01.
| Solid Phase Extraction/Gas Chromatography/Mass Spectrometry (GC/MS) | 525.3 ²⁴ |  |  |
Picloram | Gas Chromatography/Electron Capture Detection (GC/ECD) |  | 6640 B | 6640 B | 6640 B-01.
Simazine | Liquid Chromatography Electrospray Ionization Tandem Mass Spectrometry (LC/ESI-MS/MS) | 536 ²⁵ |  |  |
| Solid Phase Extraction/Gas Chromatography/Mass Spectrometry (GC/MS) | 525.3,²⁴ 523 ²⁶ |  |  |
Toxaphene | Solid Phase Extraction/Gas Chromatography/Mass Spectrometry (GC/MS) | 525.3 ²⁴ |  |  |
Total Trihalomethanes | Purge & trap/Gas Chromatography/Mass Spectrometry | 524.3,⁹ 524.4 ²⁹ |  |  |

Alternative Testing Methods for Contaminants Listed at 40 CFR 141.25(a)
Contaminant | Methodology | SM 21st Edition ¹ | SM 22nd Edition ²⁸ | ASTM ⁴
Naturally Occurring:
Gross alpha and beta | Evaporation | 7110 B | 7110 B |
Gross alpha | Coprecipitation | 7110 C | 7110 C |
Radium 226 | Radon emanation | 7500-Ra C | 7500-Ra C | D3454-05
| Radiochemical | 7500-Ra B | 7500-Ra B | D2460-07
Radium 228 | Radiochemical | 7500-Ra D | 7500-Ra D |
Uranium | Radiochemical | 7500-U B | 7500-U B |
| ICP-MS | 3125 |  | D5673-05, 10
| Alpha spectrometry | 7500-U C | 7500-U C | D3972-09
| Laser Phosphorimetry |  |  | D5174-07
| Alpha Liquid Scintillation Spectrometry |  |  | D6239-09
Man-Made:
Radioactive Cesium | Radiochemical | 7500-Cs B | 7500-Cs B |
| Gamma Ray Spectrometry | 7120 | 7120 | D3649-06
Radioactive Iodine | Radiochemical | 7500-I B | 7500-I B | D3649-06
|  | 7500-I C | 7500-I C |
|  | 7500-I D | 7500-I D |
| Gamma Ray Spectrometry | 7120 | 7120 | D4785-08
Radioactive Strontium 89, 90 | Radiochemical | 7500-Sr B | 7500-Sr B |
Tritium | Liquid Scintillation | 7500-³H B | 7500-³H B | D4107-08
Gamma Emitters | Gamma Ray Spectrometry | 7120 | 7120 | D3649-06
|  | 7500-Cs B | 7500-Cs B | D4785-08
|  | 7500-I B | 7500-I B |

Alternative Testing Methods for Contaminants Listed at 40 CFR 141.74(a)(1)
Organism | Methodology | SM 21st edition ¹ | SM 22nd edition ²⁸ | Other
Total Coliform | Total Coliform Fermentation Technique | 9221 A, B, C | 9221 A, B, C
| Total Coliform Membrane Filter Technique | 9222 A, B, C
| ONPG-MUG Test | 9223 | 9223 B
Fecal Coliforms | Fecal Coliform Procedure | 9221 E | 9221 E
| Fecal Coliform Filter Procedure | 9222 D | 9222 D
Heterotrophic bacteria | Pour Plate Method | 9215 B | 9215 B
Turbidity | Nephelometric Method | 2130 B | 2130 B
| Laser Nephelometry (on-line) |  |  | Mitchell M5271 ¹⁰
| LED Nephelometry (on-line) |  |  | Mitchell M5331 ¹¹
| LED Nephelometry (on-line) |  |  | AMI Turbiwell ¹⁵
| LED Nephelometry (portable) |  |  | Orion AQ4500 ¹²

Alternative Testing Methods for Disinfectant Residuals Listed at 40 CFR 141.74(a)(2)
Residual | Methodology | SM 21st edition ¹ | SM 22nd edition ²⁸ | ASTM ⁴ | Other
Free Chlorine | Amperometric Titration | 4500-Cl D | 4500-Cl D | D 1253-08 |
| DPD Ferrous Titrimetric | 4500-Cl F | 4500-Cl F |  |
| DPD Colorimetric | 4500-Cl G | 4500-Cl G |  |
| Syringaldazine (FACTS) | 4500-Cl H | 4500-Cl H |  |
| On-line Chlorine Analyzer |  |  |  | EPA 334.0 ¹⁶
| Amperometric Sensor |  |  |  | ChloroSense ¹⁷
Total Chlorine | Amperometric Titration | 4500-Cl D | 4500-Cl D | D 1253-08 |
| Amperometric Titration (Low level measurement) | 4500-Cl E | 4500-Cl E |  |
| DPD Ferrous Titrimetric | 4500-Cl F | 4500-Cl F |  |
| DPD Colorimetric | 4500-Cl G | 4500-Cl G |  |
| Iodometric Electrode | 4500-Cl I | 4500-Cl I |  |
| On-line Chlorine Analyzer |  |  |  | EPA 334.0 ¹⁶
| Amperometric Sensor |  |  |  | ChloroSense ¹⁷
Chlorine Dioxide | Amperometric Titration | 4500-ClO2 C | 4500-ClO2 C |  |
| Amperometric Titration | 4500-ClO2 E | 4500-ClO2 E |  |
Ozone | Indigo Method | 4500-O3 B | 4500-O3 B |  |

Alternative Testing Methods for Contaminants Listed at 40 CFR 141.131(b)(1)
Contaminant | Methodology | EPA method | ASTM ⁴ | SM 21st edition ¹ | SM 22nd edition ²⁸
TTHM | P&T/GC/MS | 524.3,⁹ 524.4 ²⁹ |  |  |
HAA5 | LLE (diazomethane)/GC/ECD |  |  | 6251 B | 6251 B
| Ion Chromatography Electrospray Ionization Tandem Mass Spectrometry (IC-ESI-MS/MS) | 557 ¹⁴ |  |  |
Bromate | Two-Dimensional Ion Chromatography (IC) | 302.0 ¹⁸
| Ion Chromatography Electrospray Ionization Tandem Mass Spectrometry (IC-ESI-MS/MS) | 557 ¹⁴
| Chemically Suppressed Ion Chromatography |  | D 6581-08 A
| Electrolytically Suppressed Ion Chromatography |  | D 6581-08 B
Chlorite | Chemically Suppressed Ion Chromatography |  | D 6581-08 A
| Electrolytically Suppressed Ion Chromatography |  | D 6581-08 B
Chlorite—daily monitoring as prescribed in 40 CFR 141.132(b)(2)(i)(A) |  |  |
Amperometric Titration |  |  | 4500-ClO2 E | 4500-ClO2 E

Alternative Testing Methods for Disinfectant Residuals Listed at 40 CFR 141.131(c)(1)
Residual | Methodology | SM 21st edition ¹ | SM 22nd edition ²⁸ | ASTM ⁴ | Other
Free Chlorine | Amperometric Titration | 4500-Cl D | 4500-Cl D | D 1253-08
| DPD Ferrous Titrimetric | 4500-Cl F | 4500-Cl F
| DPD Colorimetric | 4500-Cl G | 4500-Cl G
| Syringaldazine (FACTS) | 4500-Cl H | 4500-Cl H
| Amperometric Sensor |  |  |  | ChloroSense ¹⁷
| On-line Chlorine Analyzer |  |  |  | EPA 334.0 ¹⁶
Combined Chlorine | Amperometric Titration | 4500-Cl D | 4500-Cl D | D 1253-08
| DPD Ferrous Titrimetric | 4500-Cl F | 4500-Cl F
| DPD Colorimetric | 4500-Cl G | 4500-Cl G
Total Chlorine | Amperometric Titration | 4500-Cl D | 4500-Cl D | D 1253-08
| Low level Amperometric Titration | 4500-Cl E | 4500-Cl E
| DPD Ferrous Titrimetric | 4500-Cl F | 4500-Cl F
| DPD Colorimetric | 4500-Cl G | 4500-Cl G
| Iodometric Electrode | 4500-Cl I | 4500-Cl I
| Amperometric Sensor |  |  |  | ChloroSense ¹⁷
| On-line Chlorine Analyzer |  |  |  | EPA 334.0 ¹⁶
Chlorine Dioxide | Amperometric Method II | 4500-ClO2 E | 4500-ClO2 E

* * * * *

Alternative Testing Methods for Parameters Listed at 40 CFR 141.131(d)
Parameter | Methodology | SM 21st edition ¹ | SM 22nd edition ²⁸ | EPA
Total Organic Carbon (TOC) | High Temperature Combustion | 5310 B | 5310 B | 415.3, Rev 1.2 ¹⁹
| Persulfate-Ultraviolet or Heated Persulfate Oxidation | 5310 C | 5310 C | 415.3, Rev 1.2 ¹⁹
| Wet Oxidation | 5310 D | 5310 D | 415.3, Rev 1.2 ¹⁹
Specific Ultraviolet Absorbance (SUVA) | Calculation using DOC and UV254 data |  |  | 415.3, Rev 1.2 ¹⁹
Dissolved Organic Carbon (DOC) | High Temperature Combustion | 5310 B | 5310 B | 415.3, Rev 1.2 ¹⁹
| Persulfate-Ultraviolet or Heated Persulfate Oxidation | 5310 C | 5310 C | 415.3, Rev 1.2 ¹⁹
| Wet Oxidation | 5310 D | 5310 D | 415.3, Rev 1.2 ¹⁹
Ultraviolet absorption at 254 nm (UV254) | Spectrophotometry | 5910 B | 5910 B | 415.3, Rev 1.2 ¹⁹

* * * * *

Alternative Testing Methods for Contaminants Listed at 40 CFR 141.402(c)(2)
Organism | Methodology | SM 20th edition ⁶ | SM 21st edition ¹ | SM 22nd edition ²⁸ | SM online ³ | Other
E. coli | Colilert ® |  | 9223 B | 9223 B | 9223 B-97 |
| Colisure ® |  | 9223 B | 9223 B | 9223 B-97 |
| Colilert-18 | 9223 B | 9223 B | 9223 B | 9223 B-97 |
| Readycult ® |  |  |  |  | Ready- cult ® ²⁰
| Colitag |  |  |  |  | Modified Coli- tag ™ ¹³
| Chromocult ® |  |  |  |  | Chromo- cult ® ²¹
| EC-MUG |  |  | 9221 F
Enterococci | Multiple-Tube Technique |  |  |  | 9230 B-04
Coliphage | Two-Step Enrichment Presence-Absence Procedure |  |  |  |  | Fast Phage ³⁰

* * * * *

Alternative Testing Methods for Contaminants Listed at 40 CFR 141.852(a)(5)
Organism | Methodology category | Method | SM 22nd edition ²⁸
Total Coliforms | Lactose Fermentation Methods | Standard Total Coliform Fermentation Technique | 9221 B.1, B.2
| Enzyme Substrate Methods | Colilert ® | 9223 B
|  | Colisure ® | 9223 B
Escherichia coli | Escherichia coli Procedure (following Lactose Fermentation Methods) | EC-MUG medium | 9221 F.1
| Enzyme Substrate Methods | Colilert ® | 9223 B
|  | Colisure ® | 9223 B

Alternative Testing Methods for Contaminants Listed at 40 CFR 143.4(b)
Contaminant | Methodology | EPA method | ASTM ⁴ | SM 21st Edition ¹ | SM 22nd Edition ²⁸ | SM Online ³
Aluminum | Axially viewed inductively coupled plasma-atomic emission spectrometry (AVICP-AES) | 200.5, Revision 4.2. ² |  |  |  |
| Atomic Absorption; Direct |  |  | 3111 D | 3111 D |
| Atomic Absorption; Furnace |  |  | 3113 B | 3113 B | 3113 B-04
| Inductively Coupled Plasma |  |  | 3120 B | 3120 B |
Chloride | Silver Nitrate Titration |  | D 512-04 B | 4500-Cl− B | 4500-Cl− B |
| Ion Chromatography |  |  | 4110 B | 4110 B |
| Potentiometric Titration |  |  | 4500-Cl− D | 4500-Cl− D |
Color | Visual Comparison |  |  | 2120 B | 2120 B |
Foaming Agents | Methylene Blue Active Substances (MBAS) |  |  | 5540 C | 5540 C |
Iron | Axially viewed inductively coupled plasma-atomic emission spectrometry (AVICP-AES) | 200.5, Revision 4.2.² |  |  |  |
| Atomic Absorption; Direct |  |  | 3111 B | 3111 B |
| Atomic Absorption; Furnace |  |  | 3113 B | 3113 B | 3113 B-04.
Inductively Coupled Plasma |  |  | 3120 B | 3120 B |
Manganese | Axially viewed inductively coupled plasma-atomic emission spectrometry (AVICP-AES) | 200.5, Revision 4.2.² |  |  |  |
| Atomic Absorption; Direct |  |  | 3111 B | 3111 B |
| Atomic Absorption; Furnace |  |  | 3113 B | 3113 B | 3113 B-04.
| Inductively Coupled Plasma |  |  | 3120 B | 3120 B |
Odor | Threshold Odor Test |  |  | 2150 B | 2150 B |
Silver | Axially viewed inductively coupled plasma-atomic emission spectrometry (AVICP-AES) | 200.5, Revision 4.2 ² |  |  |  |
| Atomic Absorption; Direct |  |  | 3111 B | 3111 B |
| Atomic Absorption; Furnace |  |  | 3113 B | 3113 B | 3113 B-04.
| Inductively Coupled Plasma |  |  | 3120 B | 3120 B |
Sulfate | Ion Chromatography |  |  | 4110 B | 4110 B |
| Gravimetric with ignition of residue |  |  | 4500-SO4²⁻ C | 4500-SO4²⁻ C | 4500-SO4²⁻ C-97.
| Gravimetric with drying of residue |  |  | 4500-SO4²⁻ D | 4500-SO4²⁻ D | 4500-SO4²⁻ D-97.
| Turbidimetric method |  | D 516-07, 11 | 4500-SO4²⁻ E | 4500-SO4²⁻ E | 4500-SO4²⁻ E-97.
| Automated methylthymol blue method |  |  | 4500-SO4²⁻ F | 4500-SO4²⁻ F | 4500-SO4²⁻ F-97.
Total Dissolved Solids | Total Dissolved Solids Dried at 180 deg C |  |  | 2540 C | 2540 C |
Zinc | Axially viewed inductively coupled plasma-atomic emission spectrometry (AVICP-AES) | 200.5, Revision 4.2.² |  |  |  |
| Atomic Absorption; Direct Aspiration |  |  | 3111 B | 3111 B |
| Inductively Coupled Plasma |  |  | 3120 B | 3120 B |

¹ Standard Methods for the Examination of Water and Wastewater, 21st edition (2005). Available from American Public Health Association, 800 I Street NW., Washington, DC 20001-3710.

² EPA Method 200.5, Revision 4.2. “Determination of Trace Elements in Drinking Water by Axially Viewed Inductively Coupled Plasma-Atomic Emission Spectrometry.” 2003. EPA/600/R-06/115. (Available at http://www.epa.gov/nerlcwww/ordmeth.htm.)

³ Standard Methods Online are available at http://www.standardmethods.org. The year in which each method was approved by the Standard Methods Committee is designated by the last two digits in the method number. The methods listed are the only online versions that may be used.

⁴ Available from ASTM International, 100 Barr Harbor Drive, West Conshohocken, PA 19428-2959 or http://astm.org. The methods listed are the only alternative versions that may be used.

* * * * *

⁶ Standard Methods for the Examination of Water and Wastewater, 20th edition (1998). Available from American Public Health Association, 800 I Street NW., Washington, DC 20001-3710.

⁷ Method ME355.01, Revision 1.0. “Determination of Cyanide in Drinking Water by GC/MS Headspace,” May 26, 2009. Available at https://www.nemi.gov or from James Eaton, H & E Testing Laboratory, 221 State Street, Augusta, ME 04333. (207) 287-2727.

⁸ Systea Easy (1-Reagent). “Systea Easy (1-Reagent) Nitrate Method,” February 4, 2009. Available at https://www.nemi.gov or from Systea Scientific, LLC., 900 Jorie Blvd., Suite 35, Oak Brook, IL 60523.

⁹ EPA Method 524.3, Version 1.0. “Measurement of Purgeable Organic Compounds in Water by Capillary Column Gas Chromatography/Mass Spectrometry,” June 2009. EPA 815-B-09-009. Available at http://water.epa.gov/drink/.

¹⁰ Mitchell Method M5271, Revision 1.1. “Determination of Turbidity by Laser Nephelometry,” March 5, 2009. Available at https://www.nemi.gov or from Leck Mitchell, Ph.D., PE, 656 Independence Valley Dr., Grand Junction, CO 81507.

¹¹ Mitchell Method M5331, Revision 1.1. “Determination of Turbidity by LED Nephelometry,” March 5, 2009. Available at https://www.nemi.gov or from Leck Mitchell, Ph.D., PE, 656 Independence Valley Dr., Grand Junction, CO 81507.

¹² Orion Method AQ4500, Revision 1.0. “Determination of Turbidity by LED Nephelometry,” May 8, 2009. Available at https://www.nemi.gov or from Thermo Scientific, 166 Cummings Center, Beverly, MA 01915, http://www.thermo.com.

¹³ Modified Colitag™ Method. “Modified Colitag™ Test Method for the Simultaneous Detection of E. coli and other Total Coliforms in Water (ATP D05-0035),” August 28, 2009. Available at https://www.nemi.gov or from CPI International, 5580 Skylane Boulevard, Santa Rosa, CA 95403.

¹⁴ EPA Method 557. “Determination of Haloacetic Acids, Bromate, and Dalapon in Drinking Water by Ion Chromatography Electrospray Ionization Tandem Mass Spectrometry (IC-ESI-MS/MS),” September 2009. EPA 815-B-09-012. Available at http://water.epa.gov/drink/.

¹⁵ AMI Turbiwell, “Continuous Measurement of Turbidity Using a SWAN AMI Turbiwell Turbidimeter,” August 2009. Available at https://www.nemi.gov or from Markus Bernasconi, SWAN Analytische Instrumente AG, Studbachstrasse 13, CH-8340 Hinwil, Switzerland.

¹⁶ EPA Method 334.0. “Determination of Residual Chlorine in Drinking Water Using an On-line Chlorine Analyzer,” September 2009. EPA 815-B-09-013. Available at http://water.epa.gov/drink/.

¹⁷ ChloroSense. “Measurement of Free and Total Chlorine in Drinking Water by Palintest ChloroSense,” August 2009. Available at https://www.nemi.gov or from Palintest Ltd, 21 Kenton Lands Road, PO Box 18395, Erlanger, KY 41018.

¹⁸ EPA Method 302.0. “Determination of Bromate in Drinking Water using Two-Dimensional Ion Chromatography with Suppressed Conductivity Detection,” September 2009. EPA 815-B-09-014. Available at http://water.epa.gov/drink/.

¹⁹ EPA 415.3, Revision 1.2. “Determination of Total Organic Carbon and Specific UV Absorbance at 254 nm in Source Water and Drinking Water,” September 2009. EPA/600/R-09/122. Available at http://www.epa.gov/nerlcwww/ordmeth.htm.

²⁰ Readycult® Method, “Readycult® Coliforms 100 Presence/Absence Test for Detection and Identification of Coliform Bacteria and Escherichia coli in Finished Waters,” January, 2007. Version 1.1. Available from EMD Millipore (division of Merck KGaA, Darmstadt, Germany), 290 Concord Road, Billerica, MA 01821.

²¹ Chromocult® Method, “Chromocult® Coliform Agar Presence/Absence Membrane Filter Test Method for Detection and Identification of Coliform Bacteria and Escherichia coli in Finished Waters,” November, 2000. Version 1.0. EMD Millipore (division of Merck KGaA, Darmstadt, Germany), 290 Concord Road, Billerica, MA 01821.

²² Hach Company. “Hach Company SPADNS 2 (Arsenite-Free) Fluoride Method 10225—Spectrophotometric Measurement of Fluoride in Water and Wastewater,” January 2011. 5600 Lindbergh Drive, P.O. Box 389, Loveland, Colorado 80539. (Available at http://www.hach.com.)

²³ Hach Company. “Hach Company TNTplus™ 835/836 Nitrate Method 10206—Measurement of Nitrate in Water and Wastewater,” January 2011. 5600 Lindbergh Drive, P.O. Box 389, Loveland, Colorado. (Available at http://www.hach.com.)

²⁴ EPA Method 525.3. “Determination of Semivolatile Organic Chemicals in Drinking Water by Solid Phase Extraction and Capillary Column Gas Chromatography/Mass Spectrometry (GC/MS),” February 2012. EPA/600/R-12/010. Available at http://www.epa.gov/nerlcwww/ordmeth.htm.

²⁵ EPA Method 536. “Determination of Triazine Pesticides and their Degradates in Drinking Water by Liquid Chromatography Electrospray Ionization Tandem Mass Spectrometry (LC/ESI-MS/MS),” October 2007. EPA 815-B-07-002. Available at http://water.epa.gov/drink.

²⁶ EPA Method 523. “Determination of Triazine Pesticides and their Degradates in Drinking Water by Gas Chromatography/Mass Spectrometry (GC/MS),” February 2011. EPA 815-R-11-002. Available at http://water.epa.gov/drink.

²⁷ EPA Method 1623.1. “Cryptosporidium and Giardia in Water by Filtration/IMS/FA,” 2012. EPA-816-R-12-001. (Available at http://water.epa.gov/drink.)

²⁸ Standard Methods for the Examination of Water and Wastewater, 22nd edition (2012). Available from American Public Health Association, 800 I Street NW., Washington, DC 20001-3710.

²⁹ EPA Method 524.4, Version 1.0. “Measurement of Purgeable Organic Compounds in Water by Gas Chromatography/Mass Spectrometry using Nitrogen Purge Gas,” May 2013. EPA 815-R-13-002. Available at http://water.epa.gov/drink.

³⁰ Charm Sciences Inc. “Fast Phage Test Procedure. Presence/Absence for Coliphage in Ground Water with Same Day Positive Prediction”. Version 009. November 2012. 659 Andover Street, Lawrence, MA 01843. Available at www.charmsciences.com.

[FR Doc. 2013-12729 Filed 5-30-13; 8:45 am]

BILLING CODE 6550-50-P